ENVIRONMENTAL PROTECTION AGENCY

40 CFR Part 63

[EPA-R09-OAR-2012-0286; FRL-9698-7]

Delegation of National Emission Standards for Hazardous Air Pollutants for Source Categories; Gila River Indian Community

AGENCY: Environmental Protection Agency (EPA).

ACTION: Direct final rule.

SUMMARY: EPA is taking direct final action to delegate the authority to implement and enforce specific National Emission Standards for Hazardous Air Pollutants (NESHAP) to the Gila River Indian Community Department of Environmental Quality (GRIC) in Arizona. The preamble outlines the process that GRIC will use to receive delegation of any future NESHAP, and identifies the NESHAP categories to be delegated by today's action. EPA has reviewed GRIC's request for delegation and has found that this request satisfies all of the requirements necessary to qualify for approval. Thus, EPA is hereby granting GRIC the authority to implement and enforce the unchanged NESHAP categories listed in this rule.

DATES: This rule is effective on September 10, 2012 without further notice, unless EPA receives relevant adverse comments by August 13, 2012. If we receive such comments, we will publish a timely withdrawal in the Federal Register to notify the public that this direct final rule will not take effect.

ADDRESSES: Submit comments, identified by docket number EPA-R09-OAR-2012-0286, by one of the following methods:

1. Federal eRulemaking Portal: www.regulations.gov. Follow the on-line instructions.

2. Email: steckel.andrew@epa.gov.

3. Mail or deliver: Andrew Steckel (Air-4), U.S. Environmental Protection Agency Region IX, 75 Hawthorne Street, San Francisco, CA 94105-3901.

Instructions: All comments will be included in the public docket without change and may be made available online at www.regulations.gov, including any personal information provided, unless the comment includes Confidential Business Information (CBI) or other information whose disclosure is restricted by statute. Information that you consider CBI or otherwise protected should be clearly identified as such and should not be submitted through www.regulations.gov or email. www.regulations.gov is an “anonymous access” system, and EPA will not know your identity or contact information unless you provide it in the body of your comment. If you send email directly to EPA, your email address will be automatically captured and included as part of the public comment. If EPA cannot read your comment due to technical difficulties and cannot contact you for clarification, EPA may not be able to consider your comment. Electronic files should avoid the use of special characters, any form of encryption, and be free of any defects or viruses.

Docket: Generally, documents in the docket for this action are available electronically at www.regulations.gov and in hard copy at EPA Region IX, 75 Hawthorne Street, San Francisco, California 94105. While all documents in the docket are listed at www.regulations.gov, some information may be publicly available only at the hard copy location (e.g., copyrighted material, large maps), and some may not be publicly available in either location (e.g., CBI). To inspect the hard copy materials, please schedule an appointment during normal business hours with the contact listed in the FOR FURTHER INFORMATION CONTACT section.

FOR FURTHER INFORMATION CONTACT: Rynda Kay, EPA Region IX, (415) 947-4118, kay.rynda@epa.gov.

SUPPLEMENTARY INFORMATION: Throughout this document, “we,” “us,” and “our” refer to EPA.

Table of Contents

I. Background

II. EPA's Action

A. Delegation for Specific Standards

B. Delegation Mechanism for Future Standards

C. Public Comment and Final Action

III. Statutory and Executive Order Reviews

I. Background

Section 112(l) of the Clean Air Act, as amended in 1990 (CAA or the Act), authorizes EPA to delegate to state, local, or tribal air pollution control agencies, the authority to implement and enforce the standards set out in the Code of Federal Regulations, Title 40 (40 CFR), Part 63, NESHAP for Source Categories. On November 26, 1993, EPA promulgated regulations, codified at 40 CFR Part 63, Subpart E (hereinafter referred to as “Subpart E”), establishing procedures for EPA's approval of state rules or programs under section 112(l) (see 58 FR 62262). Subpart E was later amended on September 14, 2000 (see 65 FR 55810).

Any request for approval under CAA section 112(l) must meet the approval criteria in 112(l)(5) and Subpart E. To streamline the approval process for future applications, a state agency, local agency or tribe may submit a one-time demonstration that it has adequate authorities and resources to implement and enforce any CAA section 112 standard. If such demonstration is approved, then the requesting agency or tribe would no longer need to resubmit a demonstration of these same authorities and resources for every subsequent request for delegation of CAA section 112 standards. 40 CFR 63.91(d)(2). However, EPA maintains the authority to withdraw its approval if the delegated agency or tribe does not adequately implement or enforce an approved rule or program. 40 CFR 63.96(b).

To be eligible to receive delegation to implement CAA programs, GRIC as an Indian Tribe must receive a Treatment as a State (TAS) determination from EPA pursuant to CAA section 301(d)(2) and EPA's implementing regulations in 40 CFR Part 49 (Tribal Authority Rule or “TAR” ¹). See 63 FR 7254 (February 12, 1998), as amended at 76 FR 23879 (April 29, 2011). In addition to the TAS eligibility determination, in order to be delegated authority to implement the NESHAP standards, GRIC agreed in a Memorandum of Agreement (2008 Delegation Memorandum) with EPA that it would: (i) Obtain the regulatory authority necessary to implement the standards by incorporating the CAA section 112 federal rules into tribal codes of regulation by reference; (ii) submit a letter to the Director of EPA Region IX's Air Division requesting delegation of the section 112 federal rule, including proof that GRIC has obtained the necessary regulatory authority to fully implement and enforce the section 112 rule for which it is seeking delegation; and (iii) receive approval from EPA to implement the requested standard. The details of this delegation mechanism are set forth in the 2008 Delegation Memorandum between GRIC and EPA.

¹ EPA previously titled these regulations as the Tribal Clean Air Act Authority, or “Tribal Authority Rule”, but recently changed the name to better reflect the scope of authority for planning and management of air quality in Indian Country. (see 76 FR 23876, April 29, 2011). However, references to Part 49, Subpart A (49.1-49.50), such as here, are still referred to as the “Tribal Authority Rule”, or “TAR”.

On October 21, 2009, EPA determined that GRIC met the eligibility requirements set forth in section 301(d)(2) of the CAA and EPA's implementing regulations in the TAR, making it eligible for treatment as a state to implement four CAA programs, including the NESHAP standards under CAA section 112 (see letter from Laura Yoshii, Acting Regional Administrator, U.S. EPA Region IX to William Rhodes, Governor, Gila River Indian Community). EPA granted GRIC's request for a TAS eligibility determination based on our conclusion that the Tribe's application met the eligibility criteria in CAA section 301(d)(2) and the TAR, including the requirement to demonstrate that the Tribe has adequate resources and authorities to implement and enforce the NESHAP under CAA section 112.

On November 10, 2008, GRIC informed EPA that it intended to obtain the regulatory authority necessary to accept delegation of section 112 standards by incorporating section 112 rules into the GRIC Tribal Code by reference. On November 18, 2008, GRIC submitted a letter to the director of the Air Division for Region IX requesting delegation of several individual section 112 standards that had been incorporated by reference into the GRIC Tribal Code.

The final step in the delegation process occurs when EPA approves GRIC's formal delegation request for that standard. Today's action is an approval of GRIC's November 18, 2008 delegation request. The standards that are being delegated by today's action are listed in a table at the end of this rule.

II. EPA's Action

A. Delegation for Specific Standards

Based on our review of GRIC's request for delegation of various NESHAP, EPA has determined that the Tribe's request meets all of the requirements to qualify for approval under CAA section 112(l) and 40 CFR 63.91. Accordingly, EPA is granting GRIC the authority to implement and enforce the requested NESHAP. This delegation of authority will be effective on September 10, 2012. A table identifying the specific NESHAP that will be delegated to GRIC is shown at the end of this rule. Although GRIC will have primary implementation and enforcement responsibility, EPA retains the right, pursuant to CAA section 112(l)(7), to enforce any applicable emission standard or requirement under CAA section 112. In addition, EPA does not delegate any authorities that require implementation through rulemaking in the Federal Register, or where Federal overview is the only way to ensure national consistency in the application of the standards or requirements of CAA section 112.

After a state, local or tribal agency has been delegated the authority to implement and enforce a NESHAP, the delegated agency becomes the primary point of contact with respect to that NESHAP. Pursuant to 40 CFR sections 63.9(a)(4)(ii) and 63.10(a)(4)(ii), EPA Region IX waives the requirement that notifications and reports for delegated standards be submitted to EPA as well as to GRIC.

In its November 18, 2008 request, GRIC included a request for delegation of the regulations implementing CAA section 112(i)(5), codified at 40 CFR Part 63, Subpart D. These requirements apply to non-federal agencies that have a permit program approved under title V of the Act (see 40 CFR 63.70). State, local, or tribal agencies implementing the requirements under Subpart D do not need approval under section 112(l). If the non-federal agency does not have an approved permit program, then these requirements are carried out by EPA. GRIC currently does not have a federally approved permit program, therefore Subpart D will be administered by EPA. In the future, if GRIC receives federal approval for their permitting program, then GRIC will automatically be able to implement the requirements of Subpart D without the need to obtain an additional delegation from EPA. Because the authority to implement the requirements under Subpart D is directly conferred to approved permitting authorities without the need for delegation through CAA section 112(l), EPA is not taking action to delegate 40 CFR Part 63, Subpart D to GRIC.

GRIC also included a request for delegation of the regulations implementing CAA sections 112(g) and 112(j), codified at 40 CFR Part 63, Subpart B. These requirements apply to major sources only, and need not be delegated under the section 112(l) approval process. When promulgating the regulations implementing section 112(g), EPA stated its view that “the Act directly confers on the permitting authority the obligation to implement section 112(g) and to adopt a program which conforms to the requirements of this rule. Therefore, the permitting authority need not apply for approval under section 112(l) in order to use its own program to implement section 112(g)” (see 61 FR 68397, December 27, 1996). Similarly, when promulgating the regulations implementing section 112(j), EPA stated its belief that “section 112(l) approvals do not have a great deal of overlap with the section 112(j) provision, because section 112(j) is designed to use the title V permit process as the primary vehicle for establishing requirements” (see 59 FR 26447, May 20, 1994). Therefore, state, local, or tribal agencies implementing the requirements under sections 112(g) and 112(j) do not need approval under section 112(l). As a result, EPA is not taking action to delegate 40 CFR Part 63, Subpart B to GRIC.

B. Delegation Mechanism for Future Standards

Today's document serves to notify the public of the details of GRIC's procedure for receiving delegation of future NESHAPs. As set forth in the 2008 Delegation Memorandum, GRIC intends to incorporate by reference, into the GRIC Tribal Code, each newly promulgated NESHAP for which it intends to seek delegation. GRIC will then submit a letter to EPA Region IX, along with proof of regulatory authority, requesting delegation for each individual NESHAP. Region IX will respond in writing that delegation is either granted or denied. If a request is approved, the delegation of authorities will be considered effective upon the date of the response letter from Region IX. Periodically, EPA will publish in the Federal Register a listing of the standards that have been delegated. Although EPA reserves its right, pursuant to 40 CFR 63.96, to review the appropriateness of any future delegation request, EPA will not institute any additional comment periods on these future delegation actions. Any parties interested in commenting on this procedure for delegating future unchanged NESHAP should do so at this time.

C. Public Comment and Final Action

As authorized in section 112(l)(5) of the Act, EPA is fully approving this delegation request because we believe it fulfills all relevant requirements. We do not think anyone will object to this approval, so we are finalizing it without proposing it in advance. However, in the Proposed Rules section of this Federal Register, we are simultaneously publishing a separate document that will serve as the proposal for this action. If we receive adverse comments by August 13, 2012, we will publish a timely withdrawal in the Federal Register to notify the public that this direct final approval will not take effect and we will address the comments in a subsequent final action based on the proposal. EPA will not institute a second comment period on the proposed rule. Any parties interested in commenting on the proposed rule should do so at this time. If we do not receive timely adverse comments, the direct final approval will be effective without further notice on September 10, 2012 and no further action will be taken on the proposed rule. Please note that if EPA receives an adverse comment on an amendment, paragraph, or section of this rule and if that provision may be severed from the remainder of the rule, EPA may adopt as final those provisions of the rule that are not the subject of an adverse comment.

III. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves an eligible Indian tribe's request for delegation of authority to implement federal requirements through tribal law and imposes no additional requirements beyond those imposed by tribal law. Accordingly, the Administrator certifies that this direct final rule will not have a significant economic impact on a substantial number of small entities under the Regulatory Flexibility Act (5 U.S.C. 601, et seq.). Because this rule approves an Indian tribe's request for delegation of authority to implement a federal program through pre-existing requirements under tribal law and does not impose any additional enforceable duty beyond that required by tribal law, it does not contain any unfunded mandate or significantly or uniquely affect small governments, as described in the Unfunded Mandates Reform Act of 1995 (Pub. L. 104-4).

Executive Order 13175, entitled “Consultation and Coordination with Indian Tribal Governments” (65 FR 67249, November 9, 2000), requires EPA to develop an accountable process to ensure “meaningful and timely input by tribal officials in the development of regulatory policies that have tribal implications.” EPA has concluded that this rule will have tribal implications in that it will have substantial direct effects on the Gila River Indian Community. However, it will neither impose substantial direct compliance costs on tribal governments, nor preempt tribal law. EPA is approving GRIC's request for delegation of authority to implement the federal NESHAP at the request of the Tribe. Tribal law will not be preempted as GRIC incorporated the federal NESHAP it seeks to implement into Tribal Law on December 13, 2006. The Tribe has requested, and fully supports, our approval of this delegation request, which makes the Tribe's regulations incorporating the NESHAP federally enforceable.

EPA worked and consulted with officials of the GRIC early in the process of developing this program to permit them to have meaningful and timely input into its development. In order to administer the NESHAP, tribes must be determined eligible (40 CFR Part 49) for TAS for the purpose of administering these standards. During the TAS eligibility process, the Tribe and EPA worked together to ensure that the appropriate information was submitted to EPA. GRIC and EPA also worked together throughout the process of developing and adopting GRIC's regulations to implement the NESHAP. The Tribe and EPA also entered into a Memorandum of Agreement, which establishes procedures to facilitate delegation of authority to implement and enforce the NESHAP to GRIC and outlines the agencies' related responsibilities.

This action also does not have Federalism implications because it does not have substantial direct effects on the States, on the relationship between the national government and the States, or on the distribution of power and responsibilities among the various levels of government, as specified in Executive Order 13132 (64 FR 43255, August 10, 1999). This action merely approves a tribal request to implement federal emission standards that apply within the exterior boundaries of the GRIC reservation, and does not alter the relationship or the distribution of power and responsibilities established in the CAA. This rule does not provide EPA with the discretionary authority to address, as appropriate, disproportionate human health or environmental effects, using practicable and legally permissible methods, under Executive Order 12898, “Federal Actions to Address Environmental Justice in Minority Populations and Low-Income Populations” (59 FR 7629, February 16, 1994). This rule also is not subject to Executive Order 13045 “Protection of Children from Environmental Health Risks and Safety Risks” (62 FR 19885, April 23, 1997), because it is not economically significant.

The requirements of section 12(d) of the National Technology Transfer and Advancement Act (NTTAA) of 1995 (15 U.S.C. 272) do not apply to this rule. In reviewing requests for delegation of CAA authority, the EPA's role is to approve an eligible tribe's request, provided that it meets the criteria of the CAA. In this context, in the absence of a prior existing requirement for the Tribe to use Voluntary Consensus Standards (VCS), the EPA has no authority to disapprove a delegation request for failure to use VCS. It would thus be inconsistent with applicable law for EPA, when it reviews a delegation request, to use VCS in place of a submission that otherwise satisfies the provisions of the CAA. Thus, the requirements of section 12(d) of NTTAA do not apply. This rule does not impose an information collection burden under the provisions of the Paperwork Reduction Act of 1995 (44 U.S.C. 3501, et seq.).

List of Subjects in 40 CFR Part 63

Environmental protection, Administrative practice and procedure, Air pollution control, Hazardous substances, Intergovernmental relations, Reporting and recordkeeping requirements.

Authority: This action is issued under the authority of Section 112 of the Clean Air Act, as amended, 42 U.S.C. Section 7412.

Dated: June 22, 2012.
Elizabeth Adams,
Acting Director, Air Division Region IX.

Therefore, 40 CFR chapter I is amended as follows:

PART 63—[AMENDED]

1. The authority citation for Part 63 continues to read as follows:

Authority: 42 U.S.C. 7401, et seq.

Subpart E—Approval of State Programs and Delegation of Federal Authorities

2. Amend § 63.99 by revising the table in paragraph (a)(3)(i) to read as follows:

§ 63.99 Delegated Federal authorities.

(a) * * *

(3) * * *

(i) * * *

Delegation Status for Part 63 Standards—Arizona
Subpart | Description | ADEQ ¹ | MCAQD ² | PDEQ ³ | PCAQCD ⁴ | GRIC ⁵
A | General Provisions | X | X | X | X | X
F | Synthetic Organic Chemical Manufacturing Industry | X | X | X | X | X
G | Synthetic Organic Chemical Manufacturing Industry: Process Vents, Storage Vessels, Transfer Operations, and Wastewater | X | X | X | X | X
H | Organic Hazardous Air Pollutants: Equipment Leaks | X | X | X | X | X
I | Organic Hazardous Air Pollutants: Certain Processes Subject to the Negotiated Regulation for Equipment Leaks | X | X | X | X | X
J | Polyvinyl Chloride and Copolymers Production | X | X | X |  | X
L | Coke Oven Batteries | X | X | X | X | X
M | Perchloroethylene Dry Cleaning | X | X | X | X | X
N | Hard and Decorative Chromium Electroplating and Chromium Anodizing Tanks | X | X | X | X | X
O | Ethylene Oxide Sterilization Facilities | X | X | X | X | X
Q | Industrial Process Cooling Towers | X | X | X | X | X
R | Gasoline Distribution Facilities | X | X | X | X | X
S | Pulp and Paper | X | X | X |  | X
T | Halogenated Solvent Cleaning | X | X | X | X | X
U | Group I Polymers and Resins | X | X | X | X | X
W | Epoxy Resins Production and Non-Nylon Polyamides Production | X | X | X | X | X
X | Secondary Lead Smelting | X | X | X | X | X
Y | Marine Tank Vessel Loading Operations |  |  |  |  | X
AA | Phosphoric Acid Manufacturing Plants | X | X | X |  | X
BB | Phosphate Fertilizers Production Plants | X | X | X |  | X
CC | Petroleum Refineries | X | X | X | X | X
DD | Off-Site Waste and Recovery Operations | X | X | X | X | X
EE | Magnetic Tape Manufacturing Operations | X | X | X | X | X
GG | Aerospace Manufacturing and Rework Facilities | X | X | X | X | X
HH | Oil and Natural Gas Production Facilities | X | X | X |  | X
II | Shipbuilding and Ship Repair (Surface Coating) |  |  |  |  | X
JJ | Wood Furniture Manufacturing Operations | X | X | X | X | X
KK | Printing and Publishing Industry | X | X | X | X | X
LL | Primary Aluminum Reduction Plants | X |  | X |  | X
MM | Chemical Recovery Combustion Sources at Kraft, Soda, Sulfite, and Stand-Alone Semichemical Pulp Mills | X | X | X |  | X
OO | Tanks—Level 1 | X | X | X | X | X
PP | Containers | X | X | X | X | X
QQ | Surface Impoundments | X | X | X | X | X
RR | Individual Drain Systems | X | X | X | X | X
SS | Closed Vent Systems, Control Devices, Recovery Devices and Routing to a Fuel Gas System or a Process | X | X | X |  | X
TT | Equipment Leaks—Control Level 1 | X | X | X |  | X
UU | Equipment Leaks—Control Level 2 | X | X | X |  | X
VV | Oil-Water Separators and Organic-Water Separators | X | X | X | X | X
WW | Storage Vessels (Tanks)—Control Level 2 | X | X | X |  | X
XX | Ethylene Manufacturing Process Units: Heat Exchange Systems and Waste Operations | X | X | X |  | X
YY | Generic MACT Standards | X | X | X |  | X
CCC | Steel Pickling | X | X | X |  | X
DDD | Mineral Wool Production | X | X | X |  | X
EEE | Hazardous Waste Combustors | X | X | X |  | X
GGG | Pharmaceuticals Production | X | X | X |  | X
HHH | Natural Gas Transmission and Storage Facilities | X | X | X |  | X
III | Flexible Polyurethane Foam Production | X | X | X |  | X
JJJ | Group IV Polymers and Resins | X | X | X | X | X
LLL | Portland Cement Manufacturing Industry | X | X | X |  | X
MMM | Pesticide Active Ingredient Production | X | X | X |  | X
NNN | Wool Fiberglass Manufacturing | X | X | X |  | X
OOO | Manufacture of Amino/Phenolic Resins | X | X | X |  | X
PPP | Polyether Polyols Production | X | X | X |  | X
QQQ | Primary Copper Smelting | X | X | X |  | X
RRR | Secondary Aluminum Production | X | X | X |  | X
TTT | Primary Lead Smelting | X | X | X |  | X
UUU | Petroleum Refineries: Catalytic Cracking, Catalytic Reforming, and Sulfur Recovery Units | X | X | X |  | X
VVV | Publicly Owned Treatment Works | X | X | X |  | X
XXX | Ferroalloys Production | X | X | X |  | X
AAAA | Municipal Solid Waste Landfills | X | X | X |  | X
CCCC | Manufacturing of Nutritional Yeast | X | X | X |  | X
DDDD | Plywood and Composite Wood Products | X | X | X |  | X
EEEE | Organic Liquids Distribution (non-gasoline) | X | X | X |  | X
FFFF | Miscellaneous Organic Chemical Manufacturing | X | X | X |  | X
GGGG | Solvent Extraction for Vegetable Oil Production | X | X | X |  | X
HHHH | Wet-Formed Fiberglass Mat Production | X | X | X |  | X
IIII | Surface Coating of Automobiles and Light-Duty Trucks | X | X |  |  | X
JJJJ | Paper and Other Web Coating | X | X | X |  | X
KKKK | Surface Coating of Metal Cans | X | X | X |  | X
MMMM | Miscellaneous Metal Parts and Products | X | X | X |  | X
NNNN | Large Appliances | X | X | X |  | X
OOOO | Printing, Coating, and Dyeing of Fabrics and Other Textiles | X | X | X |  | X
PPPP | Surface Coating of Plastic Parts and Products | X | X |  |  | X
QQQQ | Wood Building Products | X | X | X |  | X
RRRR | Surface Coating of Metal Furniture | X | X | X |  | X
SSSS | Surface Coating of Metal Coil | X | X | X |  | X
TTTT | Leather Finishing Operations | X | X | X |  | X
UUUU | Cellulose Products Manufacturing | X | X | X |  | X
VVVV | Boat Manufacturing | X | X | X |  | X
WWWW | Reinforced Plastics Composites Production | X | X | X |  | X
XXXX | Tire Manufacturing | X | X | X |  | X
YYYY | Stationary Combustion Turbines | X | X | X |  | X
ZZZZ | Stationary Reciprocating Internal Combustion Engines | X | X |  |  | X
AAAAA | Lime Manufacturing Plants | X | X | X |  | X
BBBBB | Semiconductor Manufacturing | X | X | X |  | X
CCCCC | Coke Oven: Pushing, Quenching and Battery Stacks | X | X | X |  | X
DDDDD | Industrial, Commercial, and Institutional Boiler and Process Heaters | X | X |  |  | X
EEEEE | Iron and Steel Foundries | X | X | X |  | X
FFFFF | Integrated Iron and Steel | X | X | X |  | X
GGGGG | Site Remediation | X | X | X |  | X
HHHHH | Miscellaneous Coating Manufacturing | X | X | X |  | X
IIIII | Mercury Emissions from Mercury Cell Chlor-Alkali Plants | X | X | X |  | X
JJJJJ | Brick and Structural Clay Products Manufacturing | X | X | X |  | X
KKKKK | Clay Ceramics Manufacturing | X | X | X |  | X
LLLLL | Asphalt Roofing and Processing | X | X | X |  | X
MMMMM | Flexible Polyurethane Foam Fabrication Operation | X | X | X |  | X
NNNNN | Hydrochloric Acid Production | X | X | X |  | X
PPPPP | Engine Test Cells/Stands | X | X | X |  | X
QQQQQ | Friction Products Manufacturing | X | X | X |  | X
RRRRR | Taconite Iron Ore Processing | X | X | X |  | X
SSSSS | Refractory Products Manufacturing | X | X | X |  | X
TTTTT | Primary Magnesium Refining | X | X | X |  | X
WWWWW | Hospital Ethylene Oxide Sterilizers |  | X | X |  |
YYYYY | Area Sources: Electric Arc Furnace Steelmaking Facilities |  | X | X |  |
ZZZZZ | Iron and Steel Foundries Area Sources |  | X | X |  |
BBBBBB | Gasoline Distribution Bulk Terminals, Bulk Plants, and Pipeline Facilities |  | X | X |  |
CCCCCC | Gasoline Dispensing Facilities |  | X | X |  |
DDDDDD | Polyvinyl Chloride and Copolymers Production Area Sources |  | X | X |  |
EEEEEE | Primary Copper Smelting Area Sources |  | X | X |  |
FFFFFF | Secondary Copper Smelting Area Sources |  | X | X |  |
GGGGGG | Primary Nonferrous Metals Area Sources—Zinc, Cadmium, and Beryllium |  | X | X |  |
HHHHHH | Paint Stripping and Miscellaneous Surface Coating Operations at Area Sources |  | X | X |  |
LLLLLL | Acrylic and Modacrylic Fibers Production Area Sources |  | X | X |  |
MMMMMM | Carbon Black Production Area Sources |  | X | X |  |
NNNNNN | Chemical Manufacturing Area Sources: Chromium Compounds |  | X | X |  |
OOOOOO | Flexible Polyurethane Foam Production and Fabrication Area Sources |  | X | X |  |
PPPPPP | Lead Acid Battery Manufacturing Area Sources |  | X | X |  |
QQQQQQ | Wood Preserving Area Sources |  | X | X |  |
RRRRRR | Clay Ceramics Manufacturing Area Sources |  | X | X |  |
SSSSSS | Glass Manufacturing Area Sources |  | X | X |  |
TTTTTT | Secondary Nonferrous Metals Processing Area Sources |  | X | X |  |
VVVVVV | Chemical Manufacturing Industry—Area Sources |  | X |  |  |
WWWWWW | Area Source Standards for Plating and Polishing Operations |  | X |  |  |
XXXXXX | Area Source Standards for Nine Metal Fabrication and Finishing Source Categories |  | X |  |  |
YYYYYY | Area Sources: Ferroalloys Production Facilities |  | X |  |  |
ZZZZZZ | Area Source Standards for Aluminum, Copper, and Other Nonferrous Foundries |  | X |  |  |
AAAAAAA | Asphalt Processing and Asphalt Roofing Manufacturing—Area Sources |  | X |  |  |
BBBBBBB | Chemical Preparations Industry—Area Sources |  | X |  |  |
CCCCCCC | Paint and Allied Products Manufacturing—Area Sources |  | X |  |  |
DDDDDDD | Prepared Feeds Manufacturing—Area Sources |  | X |  |  |
¹ Arizona Department of Environmental Quality
² Maricopa County Air Quality Department
³ Pima County Department of Environmental Quality
⁴ Pinal County Air Quality Control District
⁵ Gila River Indian Community Department of Environmental Quality. This table includes the GRIC DEQ only for purposes of identifying all state, local, and tribal agencies responsible for implementing part 63 standards within the geographical boundaries of the State of Arizona and does not establish any state regulatory authority in Indian country.

* * * * *

[FR Doc. 2012-17031 Filed 7-11-12; 8:45 am]

BILLING CODE 6560-50-P